FEDERAL COMMUNICATIONS COMMISSION

Sunshine Act Meeting; Open Commission Meeting, Tuesday, November 9, 2004

November 2, 2004.

The Federal Communications Commission will hold an Open Meeting on the subjects listed below on Tuesday, November 9, 2004, which is scheduled to commence at 9:30 a.m. in Room TW-C305, at 445 12th Street, SW., Washington, DC.

Item No. | Bureau | Subject
1 | International | The International Bureau will present a report on the recently completed ITU World Telecommunication Standardization Assembly (WTSA) and the Commission's participation in the conference.
2 | Wireless Telecommunications | Title: The 4.9 GHz Band Transferred from Federal Government Use (WT Docket No. 00-32). Summary: The Commission will consider a Memorandum Opinion and Order regarding changes to the rules applicable to the 4.940-4.990 GHz Band.
3 | Wireline Competition | Title: Local Telephone Competition and Broadband Reporting (WC Docket No. 04-141). Summary: The Commission will consider a Report and Order regarding modifications to and extension of its Form 477 local competition and broadband data gathering program.
4 | Wireline Competition | Title: Vonage Holdings Corporation Petition for Declaratory Ruling Concerning an Order of the Minnesota Public Utilities Commission (WC Docket No. 03-211). Summary: The Commission will consider a Memorandum Opinion and Order concerning Vonage's Petition for Declaratory Ruling regarding its DigitalVoice service in Minnesota.

Additional information concerning this meeting may be obtained from Audrey Spivack or David Fiske, Office of Media Relations, (202) 418-0500; TTY 1-888-835-5322. Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 14151 Park Meadow Drive, Chantilly, VA 20151, (703) 679-3851.

Copies of materials adopted at this meeting can be purchased from the FCC's duplicating contractor, Best Copy and Printing, Inc. (202) 488-5300; Fax (202) 488-5563; TTY (202) 488-5562. These copies are available in paper format and alternative media, including large print/type; digital disk; and audio tape. Best Copy and Printing, Inc. may be reached by e-mail at FCC@BCPIWEB.com.

Federal Communications Commission.
Marlene H. Dortch,
Secretary.

[FR Doc. 04-25056 Filed 11-5-04; 12:04 pm]

BILLING CODE 6712-01-U